ENVIRONMENTAL PROTECTION AGENCY

[ER-FRL-6678-1]

Environmental Impact Statements; Notice of Availability

Responsible Agency: Office of Federal Activities, General Information (202) 564-7167 or http://www.epa.gov/compliance/nepa/.

Weekly receipt of Environmental Impact Statements

Filed 07/31/2006 Through 08/04/2006

Pursuant to 40 CFR 1506.9.

EIS No. 20060326, Final EIS, BOP, NH, Berlin, Coos County, Proposed Federal Correctional Institution, Construction and Operation, City of Berlin, Coos County, NH, Wait Period Ends: 09/11/2006, Contact: Pamela J. Chandler 202-514-6470.

EIS No. 20060327, Final Supplement, AFS, CA, Empire Vegetation Management Project, Additional Information to Clarify Previous Analysis, Vegetation, Fire/Fuels/Air Quality, Wildlife, Watershed, and Botanical Resource/Noxious Weeds, Mount Hough Ranger District, Plumas National Forest, Plumas County, CA, Wait Period Ends: 09/11/2006, Contact: Gary Rotta 530-283-0555.

EIS No. 20060328, Draft EIS, NRS, MA, Cape Cod Water Resources Restoration Project, Restore Degraded Salt Marshes, Restore Anadromous Fish Passages, and Improve Water Quality for Shellfishing Area, Cape Cod, Barnstable County, MA, Comment Period Ends: 09/25/2006, Contact: Carl Gustafson 413-253-4302.

EIS No. 20060329, Final EIS, NRS, MO, East Locust Creek Watershed Revised Plan, Installation of Multiple-Purpose Reservoir, Flood Prevention and Watershed Protection, Sullivan and Putnam Counties, MO, Wait Period Ends: 09/11/2006, Contact: Roger A. Hansen 573-876-0901.

EIS No. 20060330, Draft EIS, NOA, CA, Channel Islands National Marine Sanctuary (CINES) Project, Establishment of No-Take and Limited-Take Marine Zones, Protection of Sanctuary Biodiversity, CA, Comment Period Ends: 10/10/2006, Contact: Chris Mobley 805-966-7107.

EIS No. 20060331, Final EIS, FRC, WA, Rocky Reach Hydroelectric Project, (FERC/DEIS-0184D), Application for a New License for the Existing 865.76 Megawatt Facility, Public Utility District No. 1 (PUD), Columbia River, Chelan County, WA, Wait Period Ends: 09/11/2006, Contact: Todd Sedmak 1-866-208-FERC.

EIS No. 20060332, Final Supplement, NOA, 00, Amendment 26 to the Gulf of Mexico Reef Fish Fishery Management Plan, Proposed Individual Fishing Quota (IFQ) Program to Reduce Overcapacity in the Commercial Red Snapper Fishery, Wait Period Ends: 09/11/2006, Contact: Roy E. Crabtree 727-824-5308.

EIS No. 20060333, Draft EIS, USA, MD, U.S. Army Medical Research Institute of Infectious Diseases (USAMRIID), Construction and Operation of New USAMRIID Facilities and Decommissioning and Demolition and/or Re-use of Existing USAMRIID Facilities, Fort Detrick, MD, Comment Period Ends: 09/25/2006, Contact: Dave Hand 410-962-8154.

EIS No. 20060334, Final Supplement, UAF, 00, Realistic Bomber Training Initiative, Addresses Impacts of Wake Vortices on Surface Structures, Dyess Air Force Base, TX and Barksdale Air Force Base, LA, Wait Period Ends: 09/11/2006, Contact: Sheryl Parker 757-764-9334.

Amended Notices

EIS No. 20060318, Draft EIS, FHW, NC, Greenville Southwest Bypass Study, Transportation Improvements to NC 11 and U.S. 264 Business, U.S. Army COE Section 404 Permit, Pitt County, NC, Comment Period Ends: 09/18/2006, Contact: John F. Sullivan, III 919-856-4346. Revision of FR Notice Published in 08/04/2006: Correction to State from NY to NC.

Dated: August 8, 2006.
Robert W. Hargrove,
Director, NEPA Compliance Division, Office of Federal Activities.

[FR Doc. E6-13207 Filed 8-10-06; 8:45 am]

BILLING CODE 6560-50-P